DEPARTMENT OF COMMERCE

National Oceanic and Atmospheric Administration

[RTID 0648-XE716]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Cape Cod Commercial Fishermen's Alliance. Regulations under the Magnuson-Stevens Fishery Conservation and Management Act require publication of this notification to provide interested parties the opportunity to comment on applications for proposed EFPs.

DATES: Comments must be received on or before April 7, 2025.

ADDRESSES: You may submit written comments by email at nmfs.gar.efp@noaa.gov. Include in the subject line “CCCFA SCOQ EFP.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978-281-9185.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.14(j)(2)(iii) | Prohibition against offloading unshucked surfclams or ocean quahogs from vessels not capable of carrying cages | Participating vessels are not capable of carrying cages, and ports do not have the infrastructure to safely offload into cages.
50 CFR 648.14(j)(3)(vi) | Prohibition against landing or possessing, after offloading, any cage holding surfclams or ocean quahogs without a cage tag required by § 648.77 | Participating vessels will use alternate/smaller sized containers and alternate tags, and will not be tagging as required in 648.77.
50 CFR 648.77(a) | Cage tag requirements | The tags will not be in increments of 60 cubic feet (ft3) (1.7 cubic meters (m3)) (32 bushels); the landing containers will be tagged in 16-bushel increments.

Table 2—Project Summary
Project title | Use of alternative cage sizes and tag protocols to support a high-quality, niche market for Atlantic surfclam and ocean quahog harvested by day-boat vessels on Cape Cod.
Project start | Upon Issuance.
Project end | 12/31/2025.
Project objectives | To test the viability of alternate landing containers for smaller vessels, tag and quantify surfclams and ocean quahogs with a cage tag equivalent, and evaluate alternative landing procedures to improve the quality and value of surfclams landed with smaller vessels and smaller containers.
Project location | Federal waters around Cape Cod, to include Statistical Areas 521, 514, 526, 537, and 538.
Number of vessels | 5.
Number of trips | 195.
Trip duration (days) | 1.
Total number of days | 195.
Gear type(s) | Dredge.
Number of tows or sets | 30-40 per trip; up to 7,800 total.
Duration of tows or sets | 15-30 minutes.

Project Narrative

This project builds on initial work completed in 2014-2015, and reflects renewed interest in Atlantic surfclams and ocean quahogs by the Cape Cod small boat fleet and a new, local dealer/processor that normally buys from state waters surfclam boats, and accepts smaller increments. The previous test using alternative containers and tags showed promise, but buyers at the time would not accept non-standard cages, limiting the market viability of the alternative cages. This EFP would collect data to support a future regulatory request to permanently allow small boats to land surfclams and ocean quahogs in smaller increments.

This EFP would authorize five vessels to continue to develop the viability of a day-boat Atlantic surfclam and ocean quahog fishery for small vessels based out of Cape Cod, by testing alternatives to the large industry-standard cages and 32-bushel (1.13 cubic meter (m³)) cage tags. The traditional cages do not fit on smaller day-boats and, as a result, vessels not capable of carrying a cage onboard must offload directly into cages. This can be burdensome and dangerous, and the extra handling and compression of clams in the cages can lead to damaged product and lower market value. Many ports do not have the infrastructure to safely offload into cages, and the local dealer dedicated to buying the catch is not capable of handling 32-bushel (1.13 m³) cages. All participating vessels would have open access permits and receive tags from one of the participants with allocation.

The participating vessels would use two alternative landing containers: A standard-size fish vat (internal measurements: 44 inch × 39 inch × 27 inch (1.12 meter (m) × 0.99 m × 0.69 m) capable of holding 16 bushels (0.56 m³), and a standard-size stackable fish tote (internal measurements: 25 inch × 15.8 inch × 10.2 inch (0.64 m × 0.40 m × 0.26 m) capable of holding 1.5 bushels (0.05 m³). One alternative denomination of a 16-bushel tag would be used, either on a fish vat or on a pallet of ten 1.5-bushel totes wrapped in plastic wrap; the participants acknowledge the loss of 1 bushel (0.04 m³) worth of catch for each pallet tagged. The vats would be constrained to weigh no more than 1,424 pounds (0.65 metric tons (mt)). The totes on a pallet would also be constrained to weigh no more than 1,424 pounds (but likely to only weigh 1,335 pounds (0.61 mt)); weight samples would be taken by the dealer to verify weights as to further develop the experimental containers. The applicant would work with NMFS and the National Band and Tag Company to convert standard cage tags into the alternative tag denomination. Up to 1,500 32-bushel ocean quahog tags and up to 1,000 32-bushel surf clam tags would be converted to 16-bushel tags.

Participating fishermen would complete a data sheet for each EFP trip to provide information on price per bushel and weight for each landing increment. Landings data would be verified with collection of dealer reports for each EFP trip. The proportion of breakages vs. live would be tested through collection of processor data detailing surfclam quality and condition. Annual surveys to measure impact and determine progress against the measures of success will be completed, and the effects of using modified landing containers and alternative tags will be analyzed to determine what, if any, benefits the EFP protocol provides to economic viability and safety of small boat surfclam/ocean quahog fishing businesses.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 18, 2025.
Karen H. Abrams,
Acting Director, Office of Sustainable Fisheries, National Marine Fisheries Service.

[FR Doc. 2025-04881 Filed 3-20-25; 8:45 am]

BILLING CODE 3510-22-P